DEPARTMENT OF THE INTERIOR

[NPS-MWR-BRVB-20948, PPMWBRVBS0, PPMPSPD1Z.YM0000 (166)]

Proposed Information Collection; Brown v. Board of Education National Historic Site Education Program Forms

AGENCY: National Park Service, Interior.

ACTION: Notice; request for comments.

SUMMARY: We (National Park Service, NPS) will ask the Office of Management and Budget (OMB) to approve the information collection described below. As required by the Paperwork Reduction Act of 1995 and as part of our continuing efforts to reduce paperwork and respondent burden, we invite the general public and other Federal agencies to take this opportunity to comment on this IC. We may not conduct or sponsor and a person is not required to respond to a collection of information unless it displays a valid OMB control number.

DATES: To ensure we are able to consider your comments, we must receive them on or before July 1, 2016.

ADDRESSES: Please send your comments on the ICR to Madonna L. Baucum, Information Collection Clearance Officer, National Park Service, 12201 Sunrise Valley Drive, Mail Stop 242, Reston, VA 20192 (mail); or via email at madonna_baucum@nps.gov. Please reference OMB Control Number “1024-BRVB” in the subject line of your comments.

FOR FURTHER INFORMATION CONTACT: Sherda K. Williams, Superintendent, Brown v. Board of Education National Historic Site. 1515 SE Monroe Avenue, Topeka, Kansas 66612-1143 (mailing address); or via email at sherda_williams@nps.gov.

SUPPLEMENTARY INFORMATION:

I. Abstract

The Organic Act of 1916 (54 U.S.C. 100101) directs the NPS to preserve America's natural wonders unimpaired for future generations, while also making them available for the enjoyment of the visitor. On October 26, 1992, President George H.W. Bush signed the Brown v. Board of Education National Historic Site Act of 1992, establishing the Monroe Elementary School in Topeka, Kansas as a national park. The Brown vs. Board of Education National Historic Site (BRVB) provides education programs which preserve African American history and culture. Education programs presented at BRVB utilize the following forms in order to more effectively manage the registration for and delivery of quality education programs to the public:

• Form 10-975, “Brown vs. Board of Education—Distance Learning Request Form” is used by BRVB to schedule and provide distance learning programs via H.323 equipment or the Internet. The information requested on Form 10-975 includes:

○ Contact name and title,

○ School/organization name,

○ Mailing address, telephone number,

○ Age/grade and type of group/class for attendees,

○ Technical connectivity availability (H.323 equipment, Internet, webcam)

○ Type of material covered prior to the distance learning program (for school groups),

○ What information is pertinent for the interpretive ranger to know in advance about the group, and

○ Selection of program desired.

• Form 10-976, “Brown vs. Board of Education—Reservation Request Form” is used by BRVB to schedule and provide ranger-guided programs to high school aged students which vary from brief overview talks to in-depth presentations. The information requested on Form 10-976 includes:

○ Contact name and cell phone number,

○ School name,

○ Mailing address,

○ Email address,

○ Group information to include number of students, grades, and number of adult chaperones,

○ Date/time of visit to include primary and alternate dates,

○ Type and length of program,

○ What information is pertinent for the interpretive ranger to know in advance about the group, and

○ Special needs/interests of group.

• Form 10-977, “Brown vs. Board of Education—Reservation Request Form” is used by BRVB to schedule and provide ranger-guided programs to elementary and middle school aged students which vary from brief overview talks to in-depth presentations. The information requested on Form 10-977 includes:

○ Contact name, title, and phone number,

○ School name,

○ Mailing address,

○ Email address,

○ Group information to include grade/age, number of students, and number of adult chaperones,

○ Date/time of visit to include primary and alternate dates,

○ Type and length of program, and

○ Additional relevant comments.

• Form 10-978, “Brown vs. Board of Education—Transportation Grant Request” is used by BRVB to obtain estimated transportation cost and determine eligibility for approval of bus transportation support to schools, based on guidelines. Supports access to ranger-guided on-site tours for youth. The information requested on Form 10-978 includes:

○ Contact name and phone number,

○ School name,

○ Mailing address,

○ Email address,

○ Date of visit,

○ Number of students,

○ Is requestor located within a 75 mile radius of Topeka,

○ Is the requestor a Title I school,

○ Estimated transportation cost (fuel and vehicle cost only),

○ Does the transportation provider accept credit card payments,

○ Name and phone number of point of contact to process credit card payments, and

○ The number of buses to be used by the group.

II. Data

OMB Number: 1024-New.

Title: Brown v. Board of Education National Historic Site Education Program Forms.

Form(s): NPS Forms 10-975, “Brown vs. Board of Education—Distance Learning Request Form”, 10-976, “Brown vs. Board of Education—Reservation Request Form”, 10-977, “Brown vs. Board of Education—Reservation Request Form”, and 10-978, “Brown vs. Board of Education—Transportation Grant Request”.

Type of Request: Existing collection in use without approval.

Description of Respondents: Individuals; businesses; educational institutions; nonprofit organizations; and local, State, and tribal governments.

Respondent's Obligation: Required to obtain or retain a benefit.

Frequency of Collection: On occasion.

Activity | Number of annual respondents | Number of annual responses | Completion time per response (minutes) | Total annual burden hours
10-975, “Brown vs. Board of Education—Distance Learning Request Form” | 25 | 25 | 5 | 2
10-976, “Brown vs. Board of Education—Reservation Request Form” | 25 | 25 | 5 | 2
10-977, “Brown vs. Board of Education—Reservation Request Form” | 75 | 75 | 5 | 6
10-978, “Brown vs. Board of Education—Transportation Grant Request” | 50 | 50 | 3 | 2.5
Totals | 175 | 175 |  | 10.5

Estimated Annual Nonhour Burden Cost: None.

III. Comments

We invite comments concerning this information collection on:

• Whether or not the collection of information is necessary, including whether or not the information will have practical utility;

• The accuracy of the burden for this collection of information;

• Ways to enhance the quality, utility, and clarity of the information to be collected; and

• Ways to minimize the burden to respondents, including use of automated information techniques or other forms of information technology.

Please note that the comments submitted in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that it will be done.

Dated: April 25, 2016.
Madonna L. Baucum,
Information Collection Clearance Officer, National Park Service.

[FR Doc. 2016-10198 Filed 4-29-16; 8:45 am]

BILLING CODE 4310-EH-P